DEPARTMENT OF ENERGY

National Nuclear Security Administration

Record of Decision: Final Environmental Impact Statement for the Chemistry and Metallurgy Research Building Replacement Project, Los Alamos National Laboratory, Los Alamos, NM

AGENCY: National Nuclear Security Administration, Department of Energy.

ACTION: Record of decision.

SUMMARY: The U.S. Department of Energy (DOE), National Nuclear Security Administration (NNSA) is issuing this record of decision on the proposed replacement of the existing Chemistry and Metallurgy (CMR) Building at Los Alamos National Laboratory (LANL) in Los Alamos, New Mexico. This record of decision is based upon the information contained in the “Environmental Impact Statement for the Proposed Chemistry and Metallurgy Research Building Replacement Project, Los Alamos National Laboratory, Los Alamos, New Mexico”, DOE/EIS-0350 (CMRR EIS), and other factors, including the programmatic and technical risk, construction requirements, and cost. NNSA has decided to implement the preferred alternative, alternative 1, which is the construction of a new CMR Replacement (CMRR) facility at LANL's Technical Area 55 (TA-55). The new CMRR facility would include a single, above-ground, consolidated special nuclear material-capable, Hazard Category 2 laboratory building (construction option 3) with a separate administrative office and support functions building. The existing CMR building at LANL would be decontaminated, decommissioned, and demolished in its entirety (disposition option 3). The preferred alternative includes the construction of the new CMRR facility, and the movement of operations from the existing CMR building into the new CMRR facility, with operations expected to continue in the new facility over the next 50 years.

FOR FURTHER INFORMATION CONTACT: For further information on the CMRR EIS or record of decision, or to receive a copy of this EIS or record of decision, contact: Elizabeth Withers, Document Manager, U.S. Department of Energy, Los Alamos Site Office, 528 35th Street, Los Alamos, NM 87544, (505) 667-8690. For information on the DOE National Environmental Policy Act (NEPA) process, contact: Carol M. Borgstrom, Director, Office of NEPA Policy and Compliance (EH-42), U.S. Department of Energy, 1000 Independence Avenue, SW., Washington, DC 20585, (202) 586-4600, or leave a message at (800) 472-2756.

SUPPLEMENTARY INFORMATION:

Background

The NNSA prepared this record of decision pursuant to the regulations of the Council on Environmental Quality for implementing NEPA (40 CFR parts 1500-1508) and DOE's NEPA implementing procedures (10 CFR part 1021). This record of decision is based, in part, on information provided in the CMRR EIS.

LANL is located in north-central New Mexico, about 60 miles (97 kilometers) north-northeast of Albuquerque, and about 25 miles (40 kilometers) northwest of Santa Fe. LANL occupies an area of approximately 25,600 acres (10,360 hectares), or approximately 40 square miles (104 square kilometers). NNSA is responsible for the administration of LANL as one of three National Security Laboratories. LANL provides both the NNSA and DOE with mission support capabilities through its activities and operations, particularly in the area of national security.

Work at LANL includes operations that focus on the safety and reliability of the nation's nuclear weapons stockpile and on programs that reduce global nuclear proliferation. LANL's main role in NNSA mission objectives includes a wide range of scientific and technological capabilities that support nuclear materials handling, processing and fabrication; stockpile management; materials and manufacturing technologies; nonproliferation programs; and waste management activities. LANL supports actinide (any of a series of elements with atomic numbers ranging from actinium-89 through lawrencium-103) science missions ranging from the plutonium-238 heat source program undertaken for the National Aeronautics and Space Administration (NASA) to arms control and technology development.

The capabilities needed to execute NNSA mission activities require facilities at LANL that can be used to handle actinide and other radioactive materials in a safe and secure manner. Of primary importance are the facilities located within the CMR building and the plutonium facility (located in TAs 3 and 55, respectively). Most of the LANL mission support functions require analytical chemistry (AC) and materials characterization (MC), and actinide research and development support capabilities and capacities that currently exist within facilities at the CMR building and that are not available elsewhere. Other unique capabilities are located within the plutonium facility. Work is sometimes moved between the CMR building and the plutonium facility to make use of the full suite of capabilities they provide.

The CMR building is over 50 years old and many of its utility systems and structural components are deteriorating. Studies conducted in the late 1990s identified a seismic fault trace located beneath one of the wings of the CMR building that increases the level of structural integrity required to meet current structural seismic code requirements for a Hazard Category 2 nuclear facility (a Hazard Category 2 nuclear facility is one in which the hazard analysis identifies the potential for significant onsite consequences). Correcting the CMR building's defects by performing repairs and upgrades would be difficult and costly. NNSA cannot continue to operate the assigned LANL mission-critical CMR support capabilities in the existing CMR building at an acceptable level of risk to public and worker health and safety without operational restrictions. These operational restrictions preclude the full implementation of the level of operation DOE decided upon through its 1999 record of decision for the “Site-wide Environmental Impact Statement for Continued Operation of Los Alamos National Laboratory” (DOE/EIS-0238) (LANL SWEIS). Mission-critical CMR capabilities at LANL support NNSA's stockpile stewardship and management strategic objectives; these capabilities are necessary to support the current and future directed stockpile work and campaign activities conducted at LANL. The CMR building is near the end of its useful life and action is required now by NNSA to assess alternatives for continuing these activities for the next 50 years. NNSA needs to act now to provide the physical means for accommodating continuation of the CMR building's functional, mission-critical CMR capabilities beyond 2010 in a safe, secure, and environmentally sound manner.

Alternatives Considered

NNSA evaluated the environmental impacts associated with the proposed relocation of LANL AC and MC, and associated research and development capabilities that currently exist primarily at the CMR building, to a newly constructed facility, and the continued performance of those operations and activities at the new facility for the next 50 years. The CMRR EIS analyzed four action alternatives: (1) The construction and operation of a complete new CMRR facility at TA-55; (2) the construction of the same at a “greenfield” location within TA-6; (3) and a “hybrid” alternative maintaining administrative offices and support functions at the existing CMR building with a new Hazard Category 2 laboratory facility built at TA-55, and, (4) a “hybrid” alternative with the laboratory facility being constructed at TA-6. The CMRR EIS also analyzed the no action alternative. These alternatives are described in greater detail below.

Alternative 1 is to construct a new CMRR facility consisting of two or three new buildings within TA-55 at LANL to house AC and MC capabilities and their attendant support capabilities that currently reside primarily in the existing CMR building, at the operational level identified by the expanded operations alternative for LANL operations in the 1999 LANL SWEIS. Alternative 1 would also involve construction of a parking areas(s), tunnels, vault area(s), and other infrastructure support needs. AC and MC activities would be conducted in either two separate laboratories (constructed either both above ground (construction option 1) or one above and one below ground (construction option 2)) or in one new laboratory (constructed either above ground (construction option 3) or below ground (construction option 4)). An administrative office and support functions building would be constructed separately.

Alternative 2 would construct the same new CMRR facility within TA-6; the TA-6 site is a relatively undeveloped, forested area with some prior disturbance in limited areas that is referred to as a “greenfield” site.

Alternatives 3 and 4 are “hybrid” alternatives in which the existing CMR building would continue to house administrative offices and support functions for AC and MC capabilities (including research and development) and no new administrative support building would be constructed. Structural and systems upgrades and repairs to portions of the existing CMR building would need to be performed and some portions of the building might be dispositioned. New laboratory facilities (as described for alternative 1) would be constructed either at TA-55 (alternative 3) or at TA-6 (alternative 4).

Under any of the alternatives, disposition of the existing CMR building could include a range of options from no demolition (disposition option 1), to partial demolition (disposition option 2), to demolition of the entire building (disposition option 3).

The no action alternative would involve the continued use of the existing CMR building with some minimal necessary structural and systems upgrades and repairs. Under this alternative, AC and MC capabilities (including research and development), as well as administrative offices and support activities, would remain in the existing CMR building. No new building construction would be undertaken. AC and MC operational levels would continue to be restricted and would not meet the level of operations determined necessary for the foreseeable future at LANL in the 1999 SWEIS record of decision.

Preferred Alternative

In both the draft and the final CMRR EIS, the preferred alternative for the replacement of the existing CMR building is identified as alternative 1 (construct a new CMRR facility at TA-55). The preferred construction option would be the construction of a single consolidated special nuclear material (SNM) capable, Hazard Category 2 laboratory with a separate administrative offices and support functions building (construction option 3). (Special nuclear materials include actinides such as plutonium, uranium enriched in the isotope 233 or 235, and any other material that the U.S. Nuclear Regulatory Commission determines to be special nuclear material.) NNSA's preferred option for the disposition of the existing CMR building is to decontaminate, decommission and demolish the entire structure (disposition option 3). Based on the CMRR EIS, the environmental impacts of the preferred alternative, although minimal, would be expected to be greater than those of the no action alternative. Construction option 3 would have less impact on the environment that implementing construction options 1 or 2; and disposition option 3 would have the greatest environmental impact of the disposition options analyzed.

Environmentally Preferable Alternative

The Council on Environmental Quality (CEQ), in its “Forty Most Asked Questions Concerning CEQ's NEPA Regulations” (46 FR 18026, 2/23/81) with regard to 40 CFR 1505.2, defined the “environmentally preferable alternative” as the alternative “that will promote the national environmental policy as expressed in NEPA's section 101”. Ordinarily, this means the alternative that causes the least damage to the biological and physical environment; it also means the alternative which best protects, preserves, and enhances historic, cultural, and natural resources. The CMRR EIS impact analysis indicates that there would be very little difference in the environmental impacts among the action alternatives analyzed and also that the impacts of these action alternatives would be small. After considering impacts to each resource area by alternative, NNSA has identified the no action alternative as the environmentally preferable alternative. The no action alternative was identified as having the fewest direct impacts to the physical environment and to cultural and historic resources. This is because no construction-related disturbances would exist and none of the CMR building would be demolished, as would be the case under any of the action alternatives analyzed for the proposed action, including the preferred alternative. Therefore, the no action alternative would have the fewest impacts.

Environmental Impacts of Alternatives

NNSA analyzed the potential impacts that might occur if any of the four action alternatives or the no action alternative were implemented for land use and visual resources; site infrastructure; air quality and noise; geology and soils; surface and groundwater quality; ecological resources; cultural and paleontological resources; socioeconomics; human health impacts; environmental justice; waste management and pollution prevention. NNSA considered the impacts that might occur from potential accidents associated with the four action alternatives, and the no action alternative as well, on LANL worker and area residential populations. NNSA considered the impacts of each alternative regarding the irreversible or irretrievable commitments of resources, and the relationship between short-term uses of the environment and the maintenance and enhancement of long-term productivity. The CMRR EIS analyses identified minor differences in potential environmental impacts among the action alternatives including: Differences in the amount of land disturbed long term for construction and operations, ranging between about 27 and 23 acres disturbed during construction and between 10 and 15 acres disturbed permanently during operations; and differences in the potential to indirectly affect (but not adversely affect) potential habitat for a federally-listed threatened species and the potential to have no affect on sensitive habitat areas; differences in the potential to affect human health during normal operations and during accident events; differences in waste volumes generated and managed; and differences in transportation accident dose possibilities. A comparison of impacts is discussed in the following paragraphs.

Construction Impacts

Alternative 1 (Construct New CMRR Facility at TA-55; Preferred Alternative): The construction of a new SNM-capable Hazard Category 2 laboratory, an administrative offices and support functions building, SNM vaults and other utility and security structures, and a parking lot at TA-55 would affect 26.75 acres (10.8 hectares) of mostly disturbed land, but would not change the area's current land use designation. The existing infrastructure resources (natural gas, water, electricity) would adequately support construction activities. Construction activities would result in temporary increases in air quality impacts, but resulting criteria pollutant concentrations would be below ambient air quality standards. Construction activities would not impact water, visual resources, geology and soils, or cultural and paleontological resources. Minor indirect effects on potential Mexican spotted owl habitat could result from the removal of a small amount of habitat area, increased site activities, and night-time lighting near the remaining Mexican spotted owl habitat areas. The socioeconomic impacts associated with construction would not cause any major changes to employment, housing, or public finance in the region of influence. Waste generated during construction would be adequately managed by the existing LANL management and disposal capabilities.

Alternative 2 (TA-6 Greenfield Alternative): The construction of new SNM-capable Hazard Category 2 and 3 buildings, the construction of an administrative offices and support functions facility, SNM vaults and other utility and security structures, and a parking lot at TA-6 would affect 26.75 acres (10.8 hectares) of undisturbed land, and would change the area's current land use designation to nuclear material research and development, similar to that of TA-55. Infrastructure resources (natural gas, water, electricity) would need to be extended or expanded to TA-6 to support construction activities. Construction activities would result in temporary increases in air quality impacts, but resulting criteria pollutant concentrations would be below ambient air quality standards. It would alter the existing visual character of the central portion of TA-6 from that of a largely natural woodland to an industrial site. Once completed, the new CMRR facility would result in a change in the visual resource contrast rating of TA-6 from Class III (undeveloped land where management activities do not dominate the view) to Class IV (developed land where management activities dominate the view). Construction activities would not impact water, biotic resources (including threatened and endangered species), geology and soils, or cultural and paleontological resources. The socioeconomic impacts associated with construction would not cause any major changes to employment, housing, or public finance in the region of influence. Waste generated during construction would be adequately managed by the existing LANL capabilities for handling waste. In addition, a radioactive liquid waste pipeline might also be constructed across Two Mile Canyon to tie in with an existing pipeline to the Radioactive Liquid Waste Treatment Facility (RLWTF) in TA-50.

Alternative 3 (Hybrid Alternative at TA-55): The construction of new Hazard Category 2 and 3 buildings, the construction of SNM vaults and utility and security structures, and the construction of a parking lot at TA-55 would affect 22.75 acres (9.2 hectares) of mostly disturbed land, but would not change the area's current land use designation. The existing infrastructure would adequately support construction activities. Construction activities would result in temporary increases in air quality impacts, but resulting criteria pollutant concentrations would be below ambient air quality standards. Construction activities would not impact water, visual resources, geology and soils, or cultural and paleontological resources. Minor indirect effects on Mexican spotted owl habitat could result from the removal of a small amount of habitat area, increased site activities, and night-time lighting near the remaining Mexican spotted owl habitat areas. The socioeconomic impacts associated with construction would not cause any major changes to employment, housing, or public finance in the region of influence. Waste generated during construction would be adequately managed by the existing LANL capabilities for handling waste.

Alternative 4 (Hybrid Alternative at TA-6): The construction of new Hazard Category 2 and 3 buildings, the construction of SNM vaults and utility and security structures, and the construction of a parking lot at TA-6 would affect 22.75 acres (9.2 hectares) of undisturbed land, and would change the area's current land use designation to nuclear material research and development, similar to that of TA-55. Infrastructure resources (natural gas, water, electricity) would need to be extended or expanded at TA-6 to support construction activities. Construction activities would result in temporary increases in air quality impacts, but would be below ambient air quality standards. The existing visual character of the central portion of TA-6 would be altered from that of a largely natural woodland to that of an industrial site. Once completed, the new CMRR facility would result in a change in the visual resource contrast rating of TA-6 from Class III to Class IV. Construction activities would not impact water, visual resources, biotic resources (including threatened and endangered species), geology and soils, or cultural and paleontological resources. The socioeconomic impacts associated with construction would not cause any major changes to employment, housing, or public finance in the socioeconomic region of influence. Waste generated during construction would be adequately managed by the existing LANL capabilities for handling waste. In addition, a radioactive liquid waste pipeline may also be constructed across Two Mile Canyon to tie in with an existing pipeline to the RLWTF at TA-50.

Impacts During the Transition From the CMR Building to the New CMRR Facility Under the Action Alternatives

During a 4-year transition period, CMR operations at the existing CMR building would be moved to the new CMRR facility. During this time, both CMR facilities would be operating, although at reduced levels. At the existing CMR building, where restrictions would remain in effect, operations would decrease as CMR operations move to the new CMRR facility. At the new CMRR facility, levels of CMR operations would increase as the facility becomes fully operational. In addition, the transport of routine onsite shipment of AC and MC samples would continue to take place while both facilities are operating. With both facilities operating at reduced levels at the same time, the combined demand for electricity, and manpower to support transition activities during this period might be higher than would be required by the separate facilities. Nevertheless, the combined total impacts during this transition phase from both these facilities would be expected to be less than the impacts attributed to the expanded operations alternative and the level of CMR operations analyzed in the LANL SWEIS.

Also during the transition phase, the risk of accidents would be changing at both the existing CMR building and the new CMRR facility. At the existing CMR building, the radiological material at risk and associated operations and storage would decline as material and equipment are transferred to the new CMRR facility. This material movement would have the positive effect of reducing the risk of accidents at the CMR building. Conversely, at the new CMRR facility, as the amount of radioactive material at risk and associated operations increases to full operations, the risk of accidents would also increase. However, the improvements in design and technology at the new CMRR facility would also have a positive effect of reducing overall accident risks when compared to the accident risks at the existing CMR building. The expected net effect of both of these facilities operating at the same time during the transition period would be for the risk of accidents to be lower than the accident risks at either the existing CMR building or the fully operational new CMRR facility.

Action Alternatives—Operations Impacts

Relocating CMR operations to a new CMRR facility located at either TA-55 or TA-6 within LANL would require similar facilities, infrastructure support procedures, resources, and numbers of workers during operations. For most environmental areas of concern, operational differences would be minor. There would not be any perceivable differences in impact between the action alternatives for land use and visual resources, air and water quality, biotic resources (including threatened and endangered species), geology and soils, cultural and paleontological resources, power usage, and socioeconomics. Additionally, the new CMRR facility would use existing waste management facilities to treat, store, and dispose of waste materials generated by CMR operations. All impacts would be within regulated limits and would comply with Federal, State, and local laws and regulations. Any transuranic (TRU) waste generated by CMRR facility operations would be treated and packaged in accordance with the Waste Isolation Pilot Plant (WIPP) waste acceptance criteria and transported to WIPP or a similar type facility for disposition by DOE.

Routine operations for each of the action alternatives would increase the amount of radiological releases as compared to current restricted CMR building operations. Current operations at the CMR building do not support the levels of activity described for the expanded operations alternative in the LANL SWEIS. There would be small differences in potential radiological impacts to the public, depending on the location of the new CMRR facility. However, radiation exposure to the public would be small and well below regulatory limits and limits imposed by DOE Orders. The maximally exposed offsite individual would receive a dose of less than or equal to 0.35 millirem per year, which translates to 2.1×10⁻⁷ latent cancer fatalities per year from routine operational activities at the new CMRR facility. Statistically, this translates into a risk of one chance in 5 million of a fatal cancer for the maximally exposed offsite individual due to these operations. The total dose to the population within 50 miles (80 kilometers) would be a maximum of 2.0 person-rem per year, which translates to 0.0012 latent cancer fatalities per year in the entire population from routine operations at the new CMRR facility. Statistically, this would equate to a chance of one additional fatal cancer among the exposed population every 1,000 years.

Using DOE-approved computer models and analysis techniques, estimates were made of worker and public health and safety risks that could result from potential accidents for each alternative. For all CMRR facility alternatives, the results indicate that statistically there would be no chance of a latent cancer fatality for a worker or member of the public. The CMRR facility accident with the highest risk is a facility-wide spill of radioactive material caused by a severe earthquake that exceeds the design capability of the CMRR facility under Alternative 1. The risk for the entire population for this accident was estimated to be 0.0005 latent cancer fatalities per year.

This value is statistically equivalent to stating that there would be no chance of a latent cancer fatality for an average individual in the population during the lifetime of the facility. Continued operation of the CMR building under the no action alternative would carry a higher risk because of the building's location and greater vulnerability to earthquakes. The risk for the entire population associated with an earthquake at the CMR building would be 0.0024 latent cancer fatalities per year, which is also statistically equivalent to no chance of a latent cancer fatality for an average individual during the lifetime of the facility.

As previously noted, overall CMR operational characteristics at LANL would not change regardless of the ultimate location of the replacement facility and the action alternative implemented. Sampling methods and mission operations in support of AC and MC would not change and, therefore, would not result in any additional environmental or health and safety impacts to LANL. Each of the action alternatives would generally have the same amount of operational impacts. All of the action alternatives would produce equivalent amounts of emissions and radioactive releases into the environment, infrastructure requirements would be the same, and each action alternative would generate the same amount of radioactive and non-radioactive waste, regardless of the ultimate location of the new CMRR facility at LANL. Other impacts that would be common to each of the action alternatives include transportation impacts and CMR building and CMRR facility disposition impacts. Transportation impacts could result from: (1) The one-time movement of SNM, equipment, and other materials during the transition from the existing CMR building to the new CMRR facility; and (2) the routine onsite shipment of AC and MC samples between the plutonium facility at TA-55 and the new CMRR facility. Impacts from the disposition of the existing CMR building and the CMRR facility would result from the decontamination and demolition of the buildings and the transport and disposal of radiological and non-radiological waste materials. All action alternatives would require the relocation and one-time transport of SNM equipment and materials. Transport of SNM, equipment, and other materials currently located at the CMR building to the new CMRR facility at TA-55 or TA-6 would occur over a period of two to four years. The public would not be expected to receive any measurable exposure from the one-time movement of radiological materials associated with this action. Impacts of potential handling and transport accidents during the one-time movement of SNM, equipment, and other materials during the transition from the existing CMR building to the new CMRR facility would be bounded by other facility accidents for each alternative. For all alternatives, the environmental impacts and potential risks of transportation would be small.

Under each action alternative, routine onsite shipments of AC and MC samples consisting of small quantities of radioactive materials and SNM samples would be shipped from the plutonium facility at TA-55 to the new CMRR facility at either TA-55 or TA-6. The public would not be expected to receive any additional measurable exposure from the normal movement of small quantities of radioactive materials and SNM samples between these facilities. The potential risk to a maximally exposed individual (MEI) member of the public from a transportation accident involving routine onsite shipments of AC and MC samples between the plutonium facility and CMRR facility was estimated to be very small (3.7x10-10), or approximately 1 chance in 3 billion. For all action alternatives, the overall environmental impacts and potential risks of transporting AC and MC samples would be small.

Action Alternatives—CMR Building and CMRR Facility Disposition Impacts

All action alternatives would require some level of decontamination and demolition of the existing CMR building. Operations experience at the CMR building indicates some surface contamination has resulted from the conduct of various activities over the last 50 years. Impacts associated with decontamination and demolition of the CMR building are expected to be limited to the creation of waste within LANL site waste management capabilities. This would not be a discriminating factor among the alternatives.

Decontamination, and demolition of the new CMRR facility would also be considered at the end of its designed lifetime operation of at least 50 years. Impacts from the disposition of the CMRR facility would be expected to be similar to those for the existing CMR building.

No Action Alternative: Under the no action alternative there would be no new construction and minimal necessary structural and systems upgrades and repairs. Accordingly, there would be no potential environmental impacts resulting from new construction for this alternative. Operational impacts of continuing CMR operations at the CMR building would be less than those identified under the expanded operations alterative analyzed in the 1999 LANL SWEIS due to the operating constraints imposed on radiological operations at the CMR building.

Comments on the Final Environmental Impact Statement

NNSA distributed approximately 400 copies of the final EIS to Congressional members and committees, the State of New Mexico, various American Indian tribal governments and organizations, local governments, other Federal agencies, and the general public. NNSA received one comment letter from the Pueblo of San Ildefonso regarding NNSA's responses to Pueblo concerns related to the draft CMRR EIS that focused primarily on the spread of contamination present in the canyons around LANL onto land owned by the Pueblo. This issue is beyond the scope of the CMRR EIS but will be addressed by NNSA through other means already established for LANL, such as the environmental restoration project, rather than through the NEPA compliance process.

Decision Factors

NNSA's decisions are based on its mission responsibilities and the ability to continue to perform mission-critical AC and MC operations at LANL in an environmentally sound, timely and fiscally prudent manner. Other key factors in the decision-making process include programmatic impacts and overall program risk, and construction and operational costs.

LANL's CMR operations support a wide range of scientific and technological capabilities that support, in turn, NNSA's national security mission assignments. Most of the LANL mission support functions require AC and MC, and actinide research and development support capabilities and capacities that currently exist within the CMR building. NNSA will continue to need CMR capabilities now and into the foreseeable future, much as these capabilities have been needed at LANL over the past 60 years. Programmatic risks are high if LANL CMR operations continue at the curtailed operational level now appropriate at the aging CMR building. CMR operations at LANL need to continue seamlessly in an uninterrupted fashion, and the level of overall CMR operations needs to be flexible enough to accommodate the work load variations inherent in NNSA's mission support assignments and the general increase in the level of operations currently seen as necessary to support future national security requirements.

The CMR building was initially designed and constructed to comply with the Uniform Buildings Codes in effect at the time. The CMR building's wing 4 location over a seismic trace would require very extensive and costly structural changes that would be of marginal operational return. Construction costs are estimated to be less for building and operating a new CMRR facility over the long term than the cost estimated for making changes to the aging CMR building so that the building could be operated as a nuclear facility at the level of operations required by the expanded operations alternative selected for LANL in the 1999 LANL SWEIS ROD over the next 50 years. Life cycle costs of operating a new CMRR facility at TA-55 are less than the costs would be of operating a totally upgraded CMR building over the next 50 years. Reduced general occupation costs of maintaining the new CMRR facility (such as heating and cooling the building to maintain comfortable personnel working conditions) given the reduction in occupied building square footage over that of the existing CMR building, and reduced security costs (for maintaining Perimeter Intrusion Detection Alarm Systems (PIDAS) and guard personnel) due to the co-location of the CMRR facility within the existing security perimeter of the plutonium facility thereby eliminating the need for maintaining a separate duplicative security system at the CMR building both would significantly reduce general operating costs for the new facility.

Mitigation Measures

Based on the analyses of impacts provided in the CMRR EIS, no mitigation measures were identified as being necessary since all potential environmental impacts would be substantially below acceptable levels of promulgated standards. Activities associated with the proposed construction of the new CMRR facility would follow standard procedures for minimizing construction impacts, as would demolition activities.

Decisions

NNSA has decided to implement the preferred alternative, alternative 1, which is the construction and operation of a new CMRR facility within TA-55 at LANL. The new CMRR facility would include two buildings (one building for administrative and support functions, and one building for Hazard Category 2 SNM laboratory operations), both of which would be constructed at above ground locations (construction option 3). The existing CMR building would be decontaminated, decommissioned and demolished in its entirety (disposition option 3). However, the actual implementation of these decisions is dependent on DOE funding levels and allocations of the DOE budget across competing priorities.

Issued in Washington, DC, this 3rd day of February, 2004.
Linton Brooks,
Administrator, National Nuclear Security Administration.

[FR Doc. 04-3096 Filed 2-11-04; 8:45 am]

BILLING CODE 6450-01-P